NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: Policy Statement on Cooperation with States at Commercial Nuclear Power Plants and Other Production or Utilization Facilities.

3. The form number if applicable: N/A.

4. How often the collection is required: On occasion—when a State wishes to observe NRC inspections or perform inspections for NRC.

5. Who will be required or asked to report: Those States interested in observing or performing inspections.

6. An estimate of the number of responses: Maximum of 50, although not all States participate in the program.

7. The estimated number of annual respondents: 50.

8. An estimate of the total number of hours needed annually to complete the requirement or request: An average of 10 hours per State, or 500 hours if all States participated in the program.

9. An indication of whether section 3507(d), Pub. L. 104-13 applies: Section 3507(d) does not apply, since the collection is not contained in a proposed rule.

10. Abstract: States wishing to enter into an agreement with NRC to observe or participate in NRC inspections at nuclear power facilities are requested to provide certain information to the NRC to ensure close cooperation and consistency with the NRC inspection program as specified by the Commission's Policy of Cooperation with States at Commercial Nuclear Power Plants and Other Nuclear Production or Utilization Facilities.

A copy of the final supporting statement may be viewed free of charge at the NRC Public Document Room, 2120 L Street, NW. (lower level), Washington, DC. OMB clearance requests are available at the NRC worldwide web site (http://www.nrc.gov/NRC/PUBLIC/OMB/index.html). The document will be available on the NRC home page site for 60 days after the signature date of this notice.

Comments and questions should be directed to the OMB reviewer listed below by September 11, 2000. Comments received after this date will be considered if it is practical to do so, but assurance of consideration cannot be given to comments received after this date. Erik Godwin, Office of Information and Regulatory Affairs (3150-0163), NEOB-10202, Office of Management and Budget, Washington, DC 20503

Comments can also be submitted by telephone at (202) 395-3087.

The NRC Clearance Officer is Brenda Jo. Shelton, 301-415-7233.

Dated at Rockville, Maryland, this 4th day of August 2000.
For the Nuclear Regulatory Commission,
Beth C. St. Mary,
Acting NRC Clearance Officer, Office of the Chief Information Officer.

[FR Doc. 00-20333 Filed 8-9-00; 8:45 am]

BILLING CODE 7590-01-P